DEPARTMENT OF DEFENSE

Department of the Army

[Docket ID USA-2020-HQ-0003]

Proposed Collection; Comment Request

AGENCY: U.S. Army Corps of Engineers, DoD.

ACTION: Information collection notice.

SUMMARY: In compliance with the Paperwork Reduction Act of 1995, the U.S. Army Corps of Engineers announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 6, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the U.S. Army Corps of Engineers, Institute for Water Resources, Casey Building, 8801 Telegraph Road, Alexandria VA 22315, ATTN Meredith Bridgers or call 703-428-8458.

SUPPLEMENTARY INFORMATION:

Title; Associated Form; and OMB Number: Recreation Use and Expenditure Survey; OMB Control Number 0710-0020.

Needs and Uses: The information collection requirement is necessary to produce recreation visitation and local expenditure estimates at U.S. Army Corps of Engineers Water Resource Projects.

Affected Public: Individuals or households, business or other for-profit, and not-for-profit institutions.

Annual Burden Hours: 2,115 hours.

Number of Respondents: 19,050.

Responses per Respondent: 1.11.

Annual Responses: 21,146.

Average Burden per Response: 6 minutes.

Frequency: On occasion.

Respondents are public visitors to U.S. Army Corps of Engineers Recreation Areas. Visitors exiting the recreation area by vehicle are stopped as potential respondents. Participation is voluntary.

Dated: January 31, 2020.
Morgan E. Park,
Alternate OSD Federal Register Liaison Officer, Department of Defense.

[FR Doc. 2020-02208 Filed 2-4-20; 8:45 am]

BILLING CODE 5001-06-P